DEPARTMENT OF HOMELAND SECURITY

Transportation Security Administration

[Docket No. TSA-2006-24191]

Revision of Agency Information Collection Activity Under OMB Review: Transportation Worker Identification Credential (TWIC®) Program

AGENCY: Transportation Security Administration, DHS.

ACTION: 30-Day notice.

SUMMARY: This notice announces that the Transportation Security Administration (TSA) has forwarded the Information Collection Request (ICR), Office of Management and Budget (OMB) control number 1652-0047, abstracted below to OMB for review and approval of a revision of the currently approved collection under the Paperwork Reduction Act (PRA). The ICR describes the nature of the information collection and its expected burden. TSA published a Federal Register notice soliciting comments during a 60-day period of the following collection of information on October 24, 2016, at 81 FR 73126. The collection involves the submission of identifying and other information by individuals applying for a TWIC®, the expanded collection and use of biographic and biometric (e.g., fingerprints, iris scans, and/or photograph) information for other enrollment options, the removal of TWIC® Extended Expiration Date (EED) requirements, and a revision to the TWIC® standard enrollment fee. Also, the collection expands on the individuals in the field of transportation who may wish to apply for a TWIC® and undergo the associated security threat assessment.

DATES: Send your comments by April 20, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Transportation Worker Identification Credential (TWIC®) Program.

Type of Request: Revision of a currently approved collection.

OMB Control Number: 1652-0047.

Forms(s): TWIC® Disclosure and Certification Form, TWIC® Pre-Enrollment Application, TWIC® Enrollment Application, TWIC® Card Replacement Request, and TWIC® Customer Satisfaction Survey.

Affected Public: Individuals seeking or requiring unescorted access to secure areas within the TSA's national and transportation security mission or facilities and vessels regulated by the Maritime Transportation Security Act (MTSA) of 2002 (Pub. L. 107-295; Nov. 25, 2002; sec. 102), other authorized individuals in the field of transportation, and all mariners holding U.S. Coast Guard-issued credentials or qualification documents.

Abstract: The data collected will be used for processing TWIC® enrollments as well as to allow expanded enrollment options for additional comparability or eligibility determinations for other programs. Individuals in the field of transportation who are authorized to apply for a TWIC® for use as part of other government programs, such as the Chemical Facility Anti-Terrorism (CFATS) program, may apply for a TWIC® and undergo the associated security threat assessment. The data used to conduct a comprehensive security threat assessment includes: (1) A criminal history records check; (2) a check of intelligence databases; and (3) an immigration status check. TSA may also use the data to determine a TWIC® holder's eligibility to participate in TSA's expedited screening program for air travel, TSA Pre✓®, without requiring an additional background check.

At the enrollment center, applicants verify their biographic information and provide identity documentation, biometric information, and proof of immigration status (if required). This information allows TSA to complete a security threat assessment. During enrollment, TSA collects from applicants a $125.25 fee for standard enrollment. (Effective October 1, 2016, TSA reduced the standard enrollment fee by $2.75 in alignment to the FBI's fee update for fingerprint-based criminal history records checks.) If TSA determines that the applicant is eligible to receive a TWIC®, TSA issues and sends an activated TWIC® card to the address provided by the applicant or notifies the applicant that their TWIC® is ready for pick up and activation at an enrollment center. Once activated, this credential will be used for facility and vessel access control requirements to include card authentication, card validation, and identity verification. In the event of a lost, damaged or stolen credential, the cardholder may request a replacement card from an enrollment center for a $60.00 fee. The one-time temporary Extended Expiration Date (EED) TWIC® renewal option and collection requirement is discontinued. TSA also conducts a survey to capture applicant and cardholder overall satisfaction with the enrollment and activation process. This optional customer satisfaction survey is provided at the end of enrollment and at the end of the activation processes.

Number of New TWIC® Enrollments: An estimated 519,710 annually.

Total Annual Hour Burden: An estimated 738,748 annually including enrollment, issuance, and appeal/waiver burden hours.

Enrollment Burden Hours: An estimated 592,574 annually.

Card Issuance Burden Hours: An estimated 121,619 annually.

Waiver/Appeal Burden Hours: An estimated 24,556 hours annually.

Number of Survey Respondents: An estimated 222,643 responses annually for TWIC® enrollment survey (181,898) and card activation/issuance survey (40,745).

Total Annual Survey Hour Burden: An estimated 9,351 hours annually, including 7,640 hours at enrollment and 1,711 hours at card issuance.

Dated: March 15, 2017.
Christina A. Walsh,
TSA Paperwork Reduction Act Officer, Office of Information Technology.

[FR Doc. 2017-05534 Filed 3-20-17; 8:45 am]

BILLING CODE 9110-05-P